NATIONAL SCIENCE FOUNDATION

Information Collection Activities: Proposed Collection; Comment Request

AGENCY: National Science Foundation.

ACTION: Notice.

SUMMARY: Under the Paperwork Reduction Act of 1995, Pub. L. 104-13 (44 U.S.C. 3501 et seq.), and as part of its continuing effort to reduce paperwork and respondent burden, the National Science Foundation (NSF) is inviting the general public and other Federal agencies to comment on this proposed information collection.

DATES: NSF should receive comments within 60 days from the date of this notice's publication.

ADDRESSES: Submit written comments to Anita Eisenstadt, Assistant General Counsel, through surface mail (National Science Foundation, 4201 Wilson Boulevard, Room 1265, Arlington, Virginia 22230); e:mail (aeisenst@nsf.gov) or fax (703-292-9041).

FOR FURTHER INFORMATION CONTACT: Call or write Anita Eisenstadt, Assistant General Counsel, at the National Science Foundation, 4201 Wilson Boulevard, Room 1265, Arlington, Virginia 22230; call (703) 292-8060, or send e:mail to aeisenst@nsf.gov.

SUPPLEMENTARY INFORMATION: Title of Collection: Antarctic emergency response plan and environmental protection information.

Abstract: The NSF, pursuant to the Antarctic Conservation Act of 1978 (16 U.S.C. 2401 et seq.) (“ACA”) regulates certain non-governmental activities in Antarctica. The ACA was amended in 1996 by the Antarctic Science, Tourism, and Conservation Act. On June 4, 1998, NSF published a proposed rule in the Federal Register (63 FR 30438) to implement certain of these statutory amendments. The proposed rule would require non-governmental Antarctic expeditions using non-U.S. flagged vessels to ensure that the vessel owner has an emergency response plan. The proposed rule would also require persons organizing a non-governmental expedition to provide expedition members with information on their environmental protection obligations under the Antarctic Conservation Act. The notice of proposed rule stated that the rule was not subject to the Paperwork Reduction Act because of the small number of U.S. operators subject to the rule. Based upon comments received on the proposed rule and the slight increase in applicable tour operators, NSF has determined that it will issue this information collection notice to satisfy the requirements of the Paperwork Reduction Act of 1995, prior to issuing the final rule.

Expected Respondents. Respondents may include non-profit organizations and small and large businesses. The majority of respondents are anticipated to be U.S. tour operators, currently estimated to number twelve.

Burden on the Public. The Foundation estimates that a one-time paperwork and recordkeeping burden of 40 hours or less, at a cost of $500 to $1400 per respondent, will result from the emergency response plan requirement contained in the proposed rule. Presently, all respondents have been providing expedition members with a copy of the Guidance for Visitors to the Antarctic (prepared and adopted at the Eighteenth Antarctic Treaty Consultative Meeting as Recommendation XVIII-1). Because this Antarctic Treaty System document satisfies the environmental protection information requirements of the proposed rule, no additional burden shall result from the environmental information requirements in the proposed rule.

Dated: January 8, 2001.
Lawrence Rudolph,
General Counsel.

[FR Doc. 01-1072 Filed 1-11-01; 8:45 am]

BILLING CODE 7555-01-M